FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011677-006.

Title: United States Australasia Agreement.

Parties:

P&O Nedlloyd Limited

Australia-New Zealand Direct Line, a division of CP Ships (UK) Limited

Contship Containerlines, a division of CP Ships (UK) Limited

Hamburg-Süd

Wallenius Wilhelmsen Lines AS

CMA CGM, S.A.

Synopsis: The proposed agreement modification suspends the conference through December 31, 2003, while permitting certain limited activities to continue during that period.

Agreement No.: 011823-002.

Title: Contship/P&O Nedlloyd Vessel Sharing Agreement.

Parties:

Contship Containerlines, a division of CP Ships (UK) Limited

P&O Nedlloyd Limited/P&O Nedlloyd BV (acting as a single party).

Synopsis: The subject agreement modification revises the sailing schedule for the 10 vessel Eastabout service to eliminate New York and Fremantle in Australia.

Agreement No.: 011824-001.

Title: Contship/P&O Nedlloyd—CMA CGM/Marfret Agreement.

Parties:

Contship Containerlines, a division of CP Ships (UK) Limited

P&O Nedlloyd Limited/P&O Nedlloyd BV (acting as a single party)

CMA CGM S.A./CMA CGM (UK) Limited (acting as a single party)

Compagnie Maritime Marfret S.A.

Synopsis: The subject agreement modification revises the sailing schedule for the 10 vessel Eastabout service to eliminate New York and Fremantle in Australia.

Agreement No.: 011825-001.

Title: CS/PONL—HSDG Agreement.

Parties:

Contship Containerlines, a division of CP Ships (UK) Limited

P&O Nedlloyd Limited/P&O Nedlloyd BV (acting as a single party)

Hamburg-Südamerikanische Dampfschifffahrts-Gesellschaft KG

Synopsis: The subject agreement modification revises the sailing schedule for the 10 vessel Eastabout service to eliminate New York and Fremantle in Australia.

Agreement No.: 011826-001.

Title: CS/PONL—Hapag-Lloyd Agreement.

Parties:

Contship Containerlines, a division of CP Ships (UK) Limited

P&O Nedlloyd Limited/P&O Nedlloyd BV (acting as a single party)

Hapag-Lloyd Container Linie GmbH

Synopsis: The subject agreement modification revises the sailing schedule for the 10 vessel Eastabout service to eliminate New York and Fremantle in Australia.

Dated: July 11, 2003.
By Order of the Federal Maritime Commission.
Bryant L. VanBrakle,
Secretary.

[FR Doc. 03-17999 Filed 7-15-03; 8:45 am]

BILLING CODE 6730-01-P